DEPARTMENT OF COMMERCE

International Trade Administration

[A-570-001]

Potassium Permanganate From the People's Republic of China: Initiation of Antidumping New Shipper Review

AGENCY: Import Administration, International Trade Administration, Department of Commerce.

ACTION: Notice of Initiation of Antidumping New Shipper Review.

SUMMARY: The Department of Commerce (“the Department”) has received a request from Groupstars Chemical Co. Ltd. (“Shandong”) (“Groupstars”) to conduct a new shipper review of the antidumping duty order on potassium permanganate from the People's Republic of China (“PRC”). In accordance with 19 CFR 351.214(d) of the Department's regulations, we are initiating this new shipper review.

EFFECTIVE DATE: March 8, 2001.

FOR FURTHER INFORMATION CONTACT: Paul Stolz or Howard Smith, AD/CVD Enforcement, Office 4, Group II, Import Administration, International Trade Administration, U.S. Department of Commerce, 14th Street and Constitution Avenue, NW., Washington, DC 20230; telephone: (202) 482-4474 or (202) 482-5193 respectively.

The Applicable Statute and Regulations

Unless otherwise indicated, all citations to the statute are references to the provisions effective January 1, 1995, the effective date of the amendments made to the Tariff Act of 1930 (“the Act”) by the Uruguay Round Agreements Act. In addition, unless otherwise indicated, all citations to the Department's regulations are to the current regulations, codified at 19 CFR part 351 (2000).

Background

On January 30, 2001 the Department received a request, in accordance with section 751(a)(2)(B) of the Act and 19 CFR 351.214(c), for a new shipper review of the antidumping duty order on potassium permanganate.

On February 7, 2001 the Department received comments from Carus Chemical Company (“petitioner”) in response to Groupstars' request for a new shipper review. Petitioner argued that the Department should reject Groupstars' request based on errors in Groupstars' certifications and alleged that Groupstars is affiliated with a company that exported potassium permanganate to the United States during the period of investigation (“POI”). On February 20, 2001 the Department sent a letter to Groupstars requesting that it clarify inconsistencies with respect to, among other things, its certifications. On February 22, 2001, Groupstars responded to the Department's letter by clarifying and correcting these inconsistencies. Also on February 22, 2001, petitioner objected to the Department providing Groupstars with an opportunity to correct its request for review and restated its argument that respondent's request for review is deficient and thus, a review should not be initiated. On February 27, 2001, Groupstars clarified that it was requesting the review on behalf of Groupstars Chemical Co., Ltd. (Shandong) People's Republic of China, the producer/exporter of the merchandise.

Pursuant to 19 CFR 351.214(b)(2)(i) and 19 CFR 351.214(b)(2)(iii)(A), Groupstars' January 30, 2001 request for review, as corrected in its February 22, 2001 submission, certified that it did not export the subject merchandise to the United States during the POI and that it is not affiliated with any company which exported subject merchandise to the United States during the POI. Pursuant to 19 CFR 351.214(b)(2)(iii)(B), Groupstars' corrected request certified that its export activities are not controlled by the central government of the PRC.

In addition, pursuant to 19 CFR 351.214(b)(2)(iv), Groupstars' request contained documentation establishing: the date after the POI on which Groupstars first shipped the subject merchandise for export to the United States, the volume of that shipment, and the date of the first sale to an unaffiliated customer in the United States.

It is the Department's usual practice in cases involving non-market economies to require that a company seeking to establish eligibility for an antidumping duty rate separate from the country-wide rate provide de jure and de facto evidence of an absence of government control over the company's export activities. See Certain Preserved Mushrooms from the People's Republic of China: Initiation of New Shipper Antidumping Duty Review, 65 FR 17257 (March 31, 2000). Accordingly, we will issue a separate rates questionnaire to the above-named respondent. If the respondent provides sufficient evidence that it is not subject to either de jure or de facto government control with respect to its exports of potassium permanganate, this review will proceed. If, on the other hand, Groupstars does not meet its burden to demonstrate its eligibility for a separate rate, then Groupstars will be deemed to be affiliated with other companies that exported during the POI. This review will then be terminated due to failure of the exporter or producer to meet the requirements of section 751(a)(2)(B)(i)(II) of the Act and 19 CFR 351.214(b)(2)(iii)(B).

Initiation of Review

The antidumping duty order on potassium permanganate from the PRC has a January anniversary month. See Antidumping Duty Order: Potassium Permanganate From the People's Republic of China, 49 FR 3897 (January 31, 1984). The Department received Groupstars' request for review on January 30, 2001. The Department's regulations provide that it will initiate a new shipper review in the calendar month immediately following the anniversary month if the request for the review is made during the six-month period ending with the end of the anniversary month. See 19 CFR 351.214(d)(1).

Although Groupstars' request may have been deficient in some respects, at the Department's request, Groupstars promptly clarified and corrected the deficiencies in its request prior to the Department's deadline for initiating this review, i.e. prior to the end of the month immediately following the anniversary month (February). With respect to petitioner's allegation of affiliation, the Department will examine this issue during the course of this review.

In accordance with section 751(a)(2)(B) of the Act and 19 CFR 351.214(d), we are initiating a new shipper review of the antidumping duty order on potassium permanganate from the PRC. We intend to issue the preliminary results of this review not later than 180 days after the date on which the review is initiated.

Pursuant to 19 CFR 351.214(g)(1)(i)(A) of the Department's regulations, the period of review (“POR”) for a new shipper review initiated in the month immediately following the anniversary month will be the twelve-month period immediately preceding the anniversary month. Therefore, the POR for this new shipper is:

Antidumping duty proceeding | Period to be reviewed
Potassium Permanganate from the PRC, A-570-001:
Groupstars Chemical, Co. Ltd. (“Shandong”) | 1/1/00-12/31/00

Subject to receipt of an adequate separate rates questionnaire response from the respondent, we will instruct the U.S. Customs Service to suspend liquidation of unliquidated entries of subject merchandise from the above company and allow, at the option of the importer, the posting of a bond or security in lieu of a cash deposit for each entry of the merchandise exported by the company listed above, until the completion of the review.

Interested parties must submit applications for disclosure under administrative protective order in accordance with 19 CFR 351.305 and 351.306.

This initiation and notice are in accordance with section 751(a) of the Act (19 U.S.C. 1675(a)) and 19 CFR 351.214.

Dated: February 28, 2001.
Holly A. Kuga,
Acting Deputy Assistant Secretary, For Import Administration.

[FR Doc. 01-5771 Filed 3-7-01; 8:45 am]

BILLING CODE 3510-DS-P